DEPARTMENT OF COMMERCE

Foreign-Trade Zones Board

[Order No. 1776]

Approval for Manufacturing Authority, Foreign-Trade Zone 153; Abbott Cardiovascular Systems, Inc., (Cardiovascular Devices), Riverside County, CA

Pursuant to its Authority Under the Foreign-Trade Zones Act of June 18, 1934, as Amended (19 U.S.C. 81a-81u), the Foreign-Trade Zones Board (the Board) Adopts the Following Order:

Whereas, the City of San Diego, grantee of Foreign-Trade Zone 153, has requested manufacturing authority on behalf of Abbott Cardiovascular Systems, Inc., within Sites 11-13 of FTZ 153, located in Riverside County, California, (FTZ Docket 6-2011, January 18, 2011);

Whereas, notice inviting public comment has been given in the Federal Register (76 FR 4283, 1/25/2011) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application for manufacturing authority under zone procedures at sites within FTZ 153, on behalf of Abbott Cardiovascular Systems, Inc., as described in the application and Federal Register notice, is approved, subject to the FTZ Act and the Board's regulations, including Section 400.28.

Signed at Washington, DC, this 26th day of July 2011.
Ronald K. Lorentzen,
Deputy Assistant Secretary for Import Administration, Alternate Chairman, Foreign-Trade Zones Board.
Attest:
Andrew McGilvray,
Executive Secretary.

[FR Doc. 2011-19814 Filed 8-3-11; 8:45 am]

BILLING CODE 3510-DS-P